DEPARTMENT OF TRANSPORTATION

National Highway Traffic Safety Administration

Reports, Forms, and Record Keeping Requirements Agency Information Collection Activity Under OMB Review

AGENCY: National Highway Traffic Safety Administration (NHTSA), U.S. Department of Transportation (DOT).

ACTION: Notice.

SUMMARY: In compliance with the Paperwork Reduction Act of 1995, this notice announces the Information Collection Request (ICR) abstracted below will be submitted to the Office of Management and Budget (OMB) for review and comment. The ICR describes the nature of the information collection and its expected burden. A Federal Register Notice with a 60-day comment period soliciting public comments on the following information collection was published on May 18, 2018 (83 FR 23336). NHTSA did not receive any public comments in response to the 60-day notice.

DATES: Comments must be received on or before September 7, 2018.

ADDRESSES: You may submit comments, within 30 days, to the Office of Information and Regulatory Affairs, Office of Management and Budget, 725 17th Street NW, Washington DC 20503, Attention NHTSA Desk Officer.

FOR FURTHER INFORMATION CONTACT: Dr. Kathy Sifrit, Office of Behavioral Safety Research (NPD-320), National Highway Traffic Safety Administration, 1200 New Jersey Avenue SE, W46-472, Washington, DC 20590. Dr. Sifrit's phone number is (202) 366-0868 and her email address is kathy.sifrit@dot.gov.

SUPPLEMENTARY INFORMATION:

Title: Hazard Perception and Distracted Driving Training Intervention for Teens

Type of Request: New information collection requirement.

Abstract: The National Highway Traffic Safety Administration (NHTSA) proposes to collect information from newly-licensed teen drivers for a one-time voluntary study to evaluate Risk Awareness and Perception Training (RAPT), a hazard perception and distracted driving training intervention to improve novice driver safety. NHTSA proposes to collect information from a sample of newly-licensed teen drivers in two States to determine (1) their eligibility to participate in a study to evaluate RAPT hazard perception training; (2) their hazard perception performance before and after they complete RAPT or placebo training, and again six months after training; and (3) their driving exposure via driving logs to account for potential differences across participants. In addition, participants will agree to allow researchers to access their crash and citation records for six months to support analyses of the effects of RAPT training on crash and citation rates. NHTSA will invite an estimated 20,000 newly licensed drivers ages 16 through 19 in two States to participate, with the goal of recruiting 10,000 volunteers—7,500 from a first State and 2,500 from a second State for validation. Participation will be voluntary and solicited through the distribution of recruiting letters at Department of Motor Vehicle locations (DMVs) when new drivers obtain their license. Once obtaining consent from the teen and their guardian(s) through an informed consent agreement, study participants will be randomly assigned within age and sex categories to either participation in the RAPT or the placebo condition. Participants in the RAPT condition will complete the training protocol; those in the placebo condition will view a vehicle maintenance video. A subsample of 2,000 participants will also be asked to complete a week-long trip log to record driving exposure during the study period. The 7,500 participants in the first State will be invited to complete a six-month follow-up test to see whether they retained the RAPT training; these participants will also be asked questions about any crashes or traffic tickets during their first six months of driving to capture any unreported crashes or incidents. NHTSA will use the information to produce a technical report that presents the results of the study. The technical report will provide aggregate (summary) statistics and tables as well as the results of statistical analysis of the information, but it will not include any personal information. The technical report will be shared with State Highway Safety Offices as well as other stakeholders interested in improving the safety of novice teen drivers. The total estimated burden for recruitment (2,000 hours), the initial training (7,500 hours), the trip log (1,167 hours) and the follow-up data collection (1,875 hours) is 12,542 hours.

Comments are invited on the following:

(i) Whether the proposed collection of information is necessary for the proper performance of the functions of the agency, including whether the information will have practical utility;

(ii) The accuracy of the Department's estimate of the burden of the proposed information collection;

(iii) Ways to enhance the quality, utility and clarity of the information to be collected; and

(iv) Ways to minimize the burden of the collection of information on respondents, including the use of automated collection techniques or other forms of information technology.

A comment to OMB is most effective if OMB receives it within 30 days of publication of this notice.

Authority: 44 U.S.C. Section 3506(c)(2)(A).

Issued in Washington, DC, on August 3, 2018.
Jeff Michael,
Associate Administrator, Research and Program Development.

[FR Doc. 2018-16951 Filed 8-7-18; 8:45 am]

BILLING CODE 4910-59-P